DEPARTMENT OF THE INTERIOR

National Park Service

36 CFR Part 7

[NPS-OZAR-29687; PPMWOZARS0/PPMPSPD1Z.YM0000]

RIN 1024-AE62

Ozark National Scenic Riverways; Motorized Vessels

AGENCY: National Park Service, Interior

ACTION: Proposed rule.

SUMMARY: The National Park Service proposes to amend special regulations governing the use of motorized vessels within Ozark National Scenic Riverways. The changes would allow the use of 60/40 horsepower motors in the middle sections of the Current and Jacks Fork Rivers. The proposed rule would establish seasonal closures in the upper sections of the rivers and limit the maximum horsepower of motorized vessels in other locations. These changes would be slight modifications to restrictions on motorized vessels that have been in place since 1991.

DATES: Comments must be received by 11:59 p.m. EST on March 7, 2022.

ADDRESSES: You may submit comments, identified by the Regulation Identifier Number (RIN) 1024-AE62, by any of the following methods:

• Federal eRulemaking Portal: www.regulations.gov. Follow the instructions for submitting comments.

• Mail or Hand Deliver to: Superintendent, Ozark National Scenic Riverways, 404 Watercress Drive, P.O. Box 490, Van Buren, MO 63965.

Instructions: Comments will not be accepted by fax, email, or in any way other than those specified above. All submissions must include the words “National Park Service” or “NPS” and must include the docket number or RIN for this rulemaking (1024-AE62). Bulk comments in any format (hard copy or electronic) submitted on behalf of others will not be accepted. Comments received may be posted without change to www.regulations.gov, including any personal information provided.

Docket: For access to the docket to read background documents or comments received, go to www.regulations.gov.

FOR FURTHER INFORMATION CONTACT: Lindel Gregory, Chief Ranger, Ozark National Scenic Riverways; (573) 323-4923; lindel_gregory@nps.gov.

SUPPLEMENTARY INFORMATION:

Background

Purpose and Significance of Ozark National Scenic Riverways

Congress established Ozark National Scenic Riverways (the Riverways) in 1964 to conserve and interpret the scenic, natural, scientific, ecological, and historic values and resources within the Riverways, and to provide for public outdoor recreational use and enjoyment of those resources. 16 U.S.C 460m. The Riverways includes portions of the Current and Jacks Fork Rivers, encompassing 134 miles of clear, free-flowing, spring-fed waterways. The impressive hydrogeological character of the Riverways' karst landscape supports an amazing variety of natural features, including a spring system unparalleled in North America. The cave system is equally impressive with one of the highest densities of caves in any unit of the National Park System.

The Riverways lies within the Ozark Highlands, an important center of biodiversity in North America. The Ozark Highlands are home to a rich array of wildlife and plants, including endemic species that exist nowhere else in the world. The Current and Jacks Fork Rivers have been designated as Outstanding National Resource Waters in Missouri. The Riverways features archeological and historic structures, landscapes, and objects, reflecting ancient life in the Ozark Highlands. The extraordinary resources of the Riverways provide outstanding recreational opportunities and experiences on and along free-flowing rivers.

Use of Motorized Vessels at the Riverways

One of the recreational opportunities at the Riverways is the use of motorboats on the Current and Jacks Fork Rivers. When the Riverways was created in 1964, the only outboard motorboats operating on the rivers were conventional propeller-driven motors with elongated shafts. The propellers of these motors could hit bottom in shallow water, resulting in propeller damage. As a result, operators outfitted their motors with a lever that would lift the propeller out of the water when the vessel skimmed across shallow areas. This naturally limited the size of most motorboats operating on the rivers to 20 horsepower (hp) or less because heavier motors were too difficult to lift. The only exception was the lower Current River that is broader and deeper than the upper reaches of the Current and Jacks Fork Rivers. In this lower section of the Current River, motorboats up to 40 hp could operate.

The status quo changed in 1976 when operators began to refit outboard motors with jet propulsion systems that could operate in inches of water. This eliminated the need to have the skills and experience to lift the propeller out of shallow water. As a consequence, the number of motorboats in the Riverways increased dramatically. The smaller, traditional motor and shaft propellers were replaced with large outboard jet motors, some exceeding 250 hp. These larger motors generated greater speed (some in excess of 50 mph) and larger wakes, and required more space to operate. This resulted in safety concerns and conflicts with other users of the rivers, including canoers, tube floaters, swimmers, and anglers.

In order to address these concerns, in 1991 the NPS revised the special regulations for the Riverways at 36 CFR 7.83(a) to designate zones for motorboat operation, restrict horsepower, and limit the use of motorboats during certain seasons (56 FR 30694). The use of motorboats was also limited to vessels equipped with outboard motors. The nature of the shallow, narrow rivers precludes the safe use of inboard motors. These motors are capable of much greater speeds but need more water depth to operate due to increased weight.

Motor boating continues to be a popular activity and means of travel on the Current and Jacks Fork Rivers. Visitors use motorboats to access fishing areas, cruise the river, and enjoy scenic views. Despite the existing regulations that manage motorboats within the Riverways, there are concerns about motorboats in certain sections of river. One concern is the effect of noise on visitors seeking a quiet experience. Another concern arises during the summer, when the number of motorboats on the rivers pose a safety hazard due to conflicts between different user groups competing for the same resources. Many access points along the rivers have become popular for concessioners and private individuals to launch nonmotorized watercraft, such as tubes, rafts, canoes, and kayaks. Often, groups of visitors seeking motorized and nonmotorized access enter the river at the same time and place, which can lead to congestion and conflicts. Once in the water, people in tubes, rafts, kayaks, and canoes can be overwhelmed by the wake of motorized vessels. Over the past 20 years, the number of visitors using nonmotorized vessels on the rivers has steadily increased. If this number continues to increase, so too will crowding and conflicts among user groups.

Proposed Rule

Summary

This proposed rule would help accommodate a variety of desired river conditions and recreational uses, promote high quality visitor experiences, promote visitor safety, and minimize conflicts among different user groups. It would do this by making the following changes to existing regulations.

Measuring Horsepower

Existing regulations, established in 1991, limit the horsepower of motorized vessels for the purpose of limiting the size and speed of motorized vessels to help ensure a safe and enjoyable experience for all types of visitors. Larger motors generate greater speed, larger wakes, and require more space in proportion to their speed. The very nature of the shallow, narrow rivers, and channel and flow characteristics preclude the safe operation and navigation of oversized motorboats around obstacles and other users in certain sections of the Current and Jacks Fork Rivers. Various combinations of channel depth and stream velocity sometimes require boaters to maintain sufficient momentum to get across the shallows, and into deeper waters, which poses a particular safety hazard to other visitors such as floaters and swimmers. Additionally, most boats used on the Current and Jacks Forks Rivers are not equipped with speedometers and are therefore unable to gauge their own speeds. Further, depending on whether a boat is traveling downstream or upstream, speedometers may not accurately gauge speed of travel. For these reasons, horsepower limits on outboard motors are the most effective means to ensure safety and achieve compliance.

Horsepower can be measured at the engine powerhead and at the final output. These measurements are virtually the same for outboard motors equipped with propellers. For motors equipped with jet propulsion systems, horsepower is approximately 30 percent less at the final output than at the powerhead. For purposes of complying with the horsepower limits, the existing regulations state that horsepower will be based upon power output at the propeller shaft as established by the manufacturer. 36 CFR 7.83(a)(2). This method of measuring power works well for motors with propellers that have not be modified to change final power output. This method is problematic, however, for motors that were manufactured with propellers but then retrofitted with jet propulsion systems that lower the final power output below the maximum horsepower that was established by the manufacturer at the propeller shaft. These types of motors are popular with visitors to the Riverways because they can operate in shallow waters and enable the use of longer and wider boats capable of transporting four or more adults against the current of the rivers. The problem is that the existing regulations prohibit many of these motors even though they have a final power output less than or equal to the maximum horsepower that the NPS has determined is appropriate. In this way, the regulations are overinclusive.

For example, the existing regulations prohibit the use of motors that exceed 40 hp in the middle sections of the Current and Jacks Fork Rivers. 36 CFR 7.83(a)(3)(i). The most popular type of motors in these sections are known as 60/40 hp motors. This indicates that the motors produce 60 hp at the powerhead but only 40 hp at the final output because they are equipped with a jet propulsion system. Some of these motors were manufactured with propellers and rated at 60 hp by the manufacturer, only to be retrofitted with jets. Others were manufactured with jet propulsion systems and for this reason could be rated at either 60 hp or 40 hp depending upon where the manufacturer measured the power. Under the existing regulations, retrofitted motors rated by the manufacturer at 60 hp are prohibited even though they now only have 40 hp of usable power. The method of measurement in the existing regulations is impracticable for vessels manufactured with jet propulsion systems because there was never a propeller shaft. In order to address this unintended outcome, the NPS has allowed 60/40 hp motors in the Riverways since 1999 under a Superintendent's memorandum.

This proposed rule would officially allow these popular motors in the middle sections of river. The proposed rule would clarify that, for purposes of complying with the regulations, maximum horsepower means the maximum horsepower produced by the engine's powerhead.¹ The proposed rule would state that this measurement may be different than the maximum power measured at the final output or the maximum power rated by the manufacturer. The proposed rule would then add tables that include maximum horsepower limits on each river that differ depending upon whether the motor has a jet propulsion system or a propeller. For the middle sections, 60 hp would be allowed for jet motors but only 40 hp would be allowed for propeller motors.

¹ This is consistent with the International Council of Marine Industry Association's Standard 28-83.

In the upper sections of the rivers, existing regulations prohibit the use of motors that exceed 25 hp measured at the propeller shaft by the manufacturer. 36 CFR 7.83(a)(3)(ii). In practice, the NPS has allowed 25 hp motors in the upper sections only if they are equipped with jet propulsion systems that lower the effective horsepower to 18 hp at the final output. The narrow and shallow nature of the upper sections make motors with more powerful outputs unsafe throughout the year. The proposed rule would change the regulations to be consistent with this practice by allowing 25 hp motors with an attached jet unit and 18 hp motors fitted with a propeller.

Seasonal Closures on the Upper Sections of River

Existing regulations allow 10 hp motors in the upper section of the Current River from May 1 through September 15, and in the upper section on the Jacks Fork river from March 1 to the Saturday before Memorial Day. 36 CFR 7.83(a)(3)(iii)-(iv). This proposed rule would prohibit motorized vessels in these sections during peak season. This would include vessels using only a trolling motor. This closure would apply to the full extent of the upper sections of each river, from the northern boundary downstream to Round Spring on the Current River, and from the western boundary downstream to the boundary at West Eminence on the Jacks Fork River. Existing regulations apply the seasonal 10 hp limit above Akers Ferry on the Current River and above Bay Creek on the Jacks Fork River, even though during off-peak seasons the 25 hp limits on the upper sections of each river apply downstream to Round Spring on the Current River, and from the western boundary downstream to the boundary at West Eminence on the Jacks Fork River.

Peak season would be defined as beginning on the day after the last day of beaver trapping season (usually around April 1) and ending on the day before the first day of gigging season for nongame fish (usually around September 15). These dates are determined annually by the Missouri Department of Conservation. Defining peak season in this manner, rather than using fixed dates, would allow visitors to use motorboats for lawful trapping and gigging activities without interfering with nonmotorized vessels (e.g., tubes, rafts, kayaks and canoes) when they are most popular. These upper sections of river are very narrow and shallow and do not receive heavy use from motorized vessels even during trapping and gigging seasons. A nonmotorized season would provide opportunities for solitude and connection with nature that are not currently available during weekends and holidays in the summer. Visitors would be able to intimately experience conditions reminiscent of those that existed when the Riverways was established. The seasonal closures would also eliminate safety concerns and conflicts that arise when motorized and nonmotorized user groups are both present in these areas.

Maximum Horsepower Limit on the Lower Section of River

Existing regulations do not impose a horsepower limit on the lower section of the Current River. The proposed rule would establish new horsepower limits in this section. The proposed rule would allow motors with propellers up to 105 hp. For the same reason that 60 hp motors would be allowed in the middle sections of the Current and Jacks Fork Rivers if they are equipped with jet propulsion systems, the proposed rule would allow 150 hp motors in the lower section of the Current River if they are similarly equipped. These limits are higher than the limits that would apply in the upper and middle sections of the rivers because the river below Big Spring is much broader and deeper. Currently, vessels with 225-300 hp motors are operating in this section of river. Motors such as these that are larger than the proposed limits of 150/105 hp generate greater speed (some in excess of 50 mph), larger wakes, and require more space to operate. This results in serious safety concerns and conflicts with other users of the river, including canoers, tube floaters, swimmers, and anglers.

Other Changes

The proposed rule would revise § 7.83(a)(1) of the existing special regulations to clarify that only motorized vessels with one outboard motor are allowed in the Riverways. The proposed rule would clarify that the motor count does not include electric trolling motors, which could accompany a vessel with a single outboard motor. For clarity, the revisions would define the terms “inboard motor” and “outboard motor” and state that the use of inboard engines and personal watercraft are prohibited.

The proposed rule would allow the Superintendent to issue a permit for the operation of vessels with motors more powerful than the horsepower limits established by the proposed rule. This would allow the Superintendent to make exceptions in limited circumstances, such as when the NPS issues permits to the Missouri Department of Fish and Game for research activities on the rivers that, for safety or other reasons, require more power than is allowed by the proposed rule.

The proposed rule would also include a provision establishing the Superintendent's authority to restrict or impose conditions on the use of motorized vessels, or close any portion of the Riverways to motorized vessels, after taking into consideration public safety, protection or park resources, weather conditions and park management objectives, provided public notice is given using one or more of the methods identified in 36 CFR 1.7. This would clarify the Superintendent's authority to respond to emerging technologies or other unforeseen circumstances in order to help maintain a safe and enjoyable experience for visitors to the Riverways.

Notice of Horsepower Restrictions

Maps indicating the horsepower limits in the various portions of the rivers would be located at Riverways headquarters in Van Buren, MO and on the Riverways' website (www.nps.gov/ozar). The Superintendent would notify the public of the start and end dates for peak season through one or more of the methods listed in 36 CFR 1.7. The proposed rule would also add a table to the special regulations that identifies each section of river and the applicable horsepower restrictions for that section during peak and non-peak seasons.

Compliance With Other Laws, Executive Orders, and Department Policy

Regulatory Planning and Review (Executive Orders 12866 and 13563)

Executive Order 12866 provides that the Office of Information and Regulatory Affairs (OIRA) in the Office of Management and Budget will review all significant rules. OIRA has determined that this proposed rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this proposed rule in a manner consistent with these requirements.

Regulatory Flexibility Act (RFA)

This proposed rule will not have a significant economic effect on a substantial number of small entities under the RFA (5 U.S.C. 601 et seq.). This certification is based on the cost-benefit and regulatory flexibility analyses found in the report entitled “Draft Cost-Benefit and Regulatory Flexibility Threshold Analyses: Proposed Special Regulations Governing the Use of Motorized Vessels within Ozark National Scenic Riverways” that can be found on the Riverways' planning website at http://parkplanning.nps.gov/ozar, by clicking the link entitled “Archived Projects,” and the clicking on the link entitled “General Management Plan, Wilderness Study, Environmental Impact Statement” and then clicking the link entitled “Document List.”

Congressional Review Act (CRA)

This proposed rule is not a major rule under 5 U.S.C. 804(2), the CRA. This proposed rule:

(a) Does not have an annual effect on the economy of $100 million or more.

(b) Will not cause a major increase in costs or prices for consumers, individual industries, federal, state, or local government agencies, or geographic regions.

(c) Does not have significant adverse effects on competition, employment, investment, productivity, innovation, or the ability of U.S. based enterprises to compete with foreign-based enterprises.

Unfunded Mandates Reform Act (UMRA)

This proposed rule does not impose an unfunded mandate on State, local, or tribal governments or the private sector of more than $100 million per year. The proposed rule does not have a significant or unique effect on state, local or tribal governments or the private sector. It addresses public use of NPS-administered waters, and imposes no requirements on other agencies or governments. A statement containing the information required by the UMRA (2 U.S.C. 1531 et seq.) is not required.

Takings (Executive Order 12630)

This proposed rule does not affect a taking of private property or otherwise have taking implications under Executive Order 12630. Access to private property adjacent to the recreation area will not be affected by this proposed rule. A takings implication assessment is not required.

Federalism (Executive Order 13132)

Under the criteria in section 1 of Executive Order 13132, this proposed rule does not have sufficient federalism implications to warrant the preparation of a Federalism summary impact statement. The proposed rule is limited in effect to federal lands managed by the NPS and would not have a substantial direct effect on state and local government. A Federalism summary impact statement is not required.

Civil Justice Reform (Executive Order 12988)

This proposed rule complies with the requirements of Executive Order 12988. Specifically, this proposed rule:

(a) Meets the criteria of section 3(a) requiring that all regulations be reviewed to eliminate errors and ambiguity and be written to minimize litigation; and

(b) Meets the criteria of section 3(b)(2) requiring that all regulations be written in clear language and contain clear legal standards.

Paperwork Reduction Act (44 U.S.C. 3501 et seq.)

This proposed rule does not contain any new collections of information that require approval by the Office of Management and Budget (OMB) under the Paperwork Reduction Act. An agency may not conduct or sponsor and a person is not required to respond to a collection of information unless it displays a currently valid OMB control number.

National Environmental Policy Act of 1969 (NEPA)

The proposed rule would implement a portion of the preferred alternative (Alternative B) for the Riverways described in the Final General Management Plan/Wilderness Study/Environmental Impact Statement (GMP/EIS), which constitutes a major Federal action significantly affecting the quality of the human environment. The NPS prepared the GMP/EIS under the NEPA. The NPS released a Draft GMP/EIS that was available for public review and comment from November 8, 2013 through February 7, 2014. The NPS released the final GMP/EIS in December 2014. On January 22, 2015, the Regional Director of the Department of the Interior Unified Regions 3, 4, and 5 (formerly the Midwest Region) signed a Record of Decision (ROD) identifying the preferred alternative as the selected action. The GMP/EIS describes the purpose and need for the plan, the alternatives considered, the scoping process and public participation, the affected environment and environmental consequences, and consultation and coordination. Copies of the GMP/EIS and ROD can be found on the Riverways' planning website at http://parkplanning.nps.gov/ozar, by clicking the link entitled “Archived Projects,” and the clicking on the link entitled “General Management Plan, Wilderness Study, Environmental Impact Statement” and then clicking the link entitled “Document List.”

Consultation With Indian Tribes (Executive Order 13175 and Department Policy)

The Department of the Interior strives to strengthen its government-to-government relationship with Indian Tribes through a commitment to consultation with Indian Tribes and recognition of their right to self-governance and tribal sovereignty. The NPS has evaluated this proposed rule under the Department's consultation policy and under the criteria in Executive Order 13175 and has determined that it has no substantial direct effects on federally recognized Indian tribes and that consultation under the Department's tribal consultation policy is not required.

The NPS consulted with culturally affiliated American Indian tribes on the development of the GMP/EIS, including meetings in Oklahoma and Missouri in 2003, 2006, 2010. The NPS invited all tribal representatives to visit the Riverways and to actively participate in the GMP/EIS planning process. As part of ongoing government-to-government relations, NPS staff will continue to consult with affiliated tribes about planning and other actions in the Riverways that could affect the tribes. NPS staff will further consult with regard to specific actions and undertakings arising from the GMP/EIS that are proposed for future implementation. When appropriate, NPS staff provide technical assistance to the tribes, including sharing information and resources, to address problems and issues of mutual concern.

Effects on the Energy Supply (Executive Order 13211)

This proposed rule is not a significant energy action under the definition in Executive Order 13211. The proposed rule is not likely to have a significant adverse effect on the supply, distribution, or use of energy, and the Administrator of OIRA has not designated the proposed rule as a significant energy action. A Statement of Energy Effects is not required.

Clarity of This Proposed Rule

The NPS is required by Executive Orders 12866 (section 1(b)(12)), 12988 (section 3(b)(1)(B)), and 13563 (section 1(a)), and by the Presidential Memorandum of June 1, 1998, to write all rules in plain language. This means that each proposed rule the NPS publishes must:

(a) Be logically organized;

(b) Use the active voice to address readers directly;

(c) Use common, everyday words and clear language rather than jargon;

(d) Be divided into short sections and sentences; and

(e) Use lists and tables wherever possible.

If you feel that the NPS has not met these requirements, send us comments by one of the methods listed in the ADDRESSES section above. To better help us revise the proposed rule, your comments should be as specific as possible. For example, you should tell us the numbers of the sections or paragraphs that you find unclear, which sections or sentences are too long, the sections where you feel lists or tables would be useful, etc.

Public Availability of Comments

Before including your address, phone number, email address, or other personal identifying information in your comment, you should be aware that your entire comment—including your personal identifying information—may be made publicly available at any time.

List of Subjects in 36 CFR Part 7

National Parks, Reporting and recordkeeping requirements.

In consideration of the foregoing, the National Park Service proposes to amend 36 CFR part 7 as follows:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. In § 7.83:

a. Redesignate paragraphs (a), (b), (c), (d) and (e) as paragraphs (b), (c), (d), (e) and (f).

b. Add a new paragraph (a).

c. Revise newly designated paragraph (b) to read as follows:

§ 7.83 Ozark National Scenic Riverways.

(a) Definitions. The following definitions apply to this section only:

Inboard motor means a marine propulsion system that is enclosed within the hull of the vessel.

Maximum horsepower means the maximum horsepower produced by the engine's powerhead. This measurement may be different than the maximum horsepower at the final output or the maximum horsepower rated by the manufacturer.

Off-peak season means anytime that is not during peak season.

Outboard motor means a marine propulsion system that is mounted on the exterior of the vessel's hull.

Peak season means a period of time:

(i) Beginning on the day after the last day of beaver trapping season, as determined by the Missouri Department of Conservation; and

(ii) Ending on the day before the first day of gigging season for nongame fish, as determined by the Missouri Department of Conservation.

(b) Restrictions for motorized vessels. (1) On waters situated within the boundaries of Ozark National Scenic Riverways, the use of motorized vessels is limited to vessels equipped with one outboard motor, not including an electric trolling motor. The use of inboard engines and personal watercraft are prohibited.

(2) The use of a motorized vessel is allowed on the Current River according to the seasonal restrictions and maximum horsepower limits set forth in Table 1 to paragraph (b)(2).

Table 1 to Paragraph (b)(2)
Section of river | Maximum horsepower during peak season | Maximum horsepower during off-peak season
Current River:
Upper Section: Northern boundary downstream to Round Spring | Motorized vessels prohibited | 25 hp (motor with jet unit); 18 hp (motor with propeller).
Middle Section: Round Spring downstream to Big Spring | 60 hp (motor with jet unit); 40 hp (motor with propeller) | 60 hp (motor with jet unit); 40 hp (motor with propeller).
Lower Section: Big Spring downstream to southern boundary | 150 hp (motor with jet unit); 105 hp (motor with propeller) | 150 hp (motor with jet unit); 105 hp (motor with propeller).

(3) The use of a motorized vessel is allowed on the Jacks Fork River according to the seasonal restrictions and maximum horsepower limits set forth in Table 1 to paragraph (b)(3):

Table 1 to Paragraph (b)(3)
Section of river | Maximum horsepower during peak season | Maximum horsepower during off-peak season
Jacks Fork River:
Upper Section: Western boundary downstream to the boundary at West Eminence | Motorized vessels prohibited | 25 hp (motor with jet unit); 18 hp (motor with propeller).
Middle Section: Boundary at East Eminence downstream to Two Rivers | 60 hp (motor with jet unit); 40 hp (motor with propeller) | 60 hp (motor with jet unit); 40 hp (motor with propeller).

(4) The maximum horsepower limits in this section may be exceeded pursuant to a written permit issued by the Superintendent.

(5) Maps indicating the horsepower limits in the various portions of the rivers are located at park headquarters in Van Buren, MO and on the Ozark National Scenic Riverways website. Designated access points will mark the boundaries of the upper, middle, and lower sections of river. The Superintendent will notify the public of the designated access points through one or more of the methods listed in § 1.7 of this chapter.

(6) Operating a motorized vessel in a manner not allowed by this paragraph (b) is prohibited.

(7) The Superintendent may restrict or impose conditions on the use of motorized vessels, or close any portion of the Riverways to motorized vessels, after taking into consideration public safety, protection or park resources, weather conditions and park management objectives. The Superintendent will provide notice of any such action by one or more of the methods listed in § 1.7(a) of this chapter.

* * * * *

Shannon A. Estenoz,
Assistant Secretary for Fish and Wildlife and Parks.

[FR Doc. 2021-28509 Filed 1-4-22; 8:45 am]

BILLING CODE 4312-EJ-P